FEDERAL MINE SAFETY AND HEALTH REVIEW COMMISSION

Sunshine Act; Meeting

February 24, 2004.

Time and Date: 2 p.m., Thursday, February 26, 2004.

Place: Hearing Room, 9th Floor, 601 New Jersey Avenue, NW., Washington, DC.

Status: Open.

Matters To Be Considered: The Commission will hear oral argument on an appeal of Rag Cumberland Resources LP from the decision of an administrative law judge in Secretary of Labor v. Rag Cumberland Resources LP, Docket Nos. PENN 2000-181-R et al. (Issues include whether the judge correctly determined that the operator violated 30 CFR 75.334(b) and 75.363(a).) No earlier announcement of the oral argument was possible.

Any person attending this oral argument who requires special accessibility features and/or auxiliary aids, such as sign language interpreters, must inform the Commission in advance of those needs. Subject to 29 CFR 2706.150(a)(3) and 2706.160(d).

Contact Person for More Info: Jean Ellen, (202) 434-9950/(202) 708-9300 for TDD Relay/1-800-877-8339 for toll free.

Jean H. Ellen,
Chief Docket Clerk.

[FR Doc. 04-5011 Filed 3-2-04; 3:46 pm]

BILLING CODE 6735-01-M